DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Implementation of Vessel Speed Restrictions to Reduce the Threat of Ship Collisions with North Atlantic Right Whales.

OMB Control Number: 0648-0580.

Form Number(s): None.

Type of Request: Regular (extension of a currently approved information collection).

Number of Respondents: 3,047.

Average Hours per Response: 5 minutes.

Burden Hours: 254.

Needs and Uses: This request is for an extension of a current information collection. On October 10, 2008, NMFS published a final rule promulgated under the Endangered Species Act implementing speed restrictions to reduce the incidence and severity of ship collisions with North Atlantic right whales (73 FR 60173). That final rule contained a collection-of-information requirement subject to the Paperwork Reduction act (PRA). Specifically, 50 CFR 224.105(c) requires a logbook entry to document that a deviation from the 10-knot speed limit was necessary for safe maneuverability under certain conditions.

In certain sea and weather conditions, a large ship may lose maneuverability at slow speeds. Therefore, under such conditions a ship, at the captain's discretion, may opt not to abide by the speed restrictions. If she/he chooses this option, she/he is required to make an entry into the ship's log, providing such information as: the reasons for the deviation, the speed at which the vessel is operated, the area, and the time and duration of such deviation.

Affected Public: Business or other for-profit organizations.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 3, 2016.
Sarah Brabson,
NOAA PRA Clearance Officer.

[FR Doc. 2016-27012 Filed 11-8-16; 8:45 am]

BILLING CODE 3510-22-P